DEPARTMENT OF THE INTERIOR

National Park Service

[N6622; NPS-WASO-NAGPRA-NPS0041352; PPWOCRADN0-PCU00RP14.R50000]

Notice of Inventory Completion: The New York Public Library, New York, NY

AGENCY: National Park Service, Interior.

ACTION: Notice.

SUMMARY: In accordance with the Native American Graves Protection and Repatriation Act (NAGPRA), The New York Public Library has completed an inventory of human remains and has determined that there is a cultural affiliation between the human remains and Indian Tribes or Native Hawaiian organizations in this notice.

DATES: Repatriation of the human remains in this notice may occur on or after January 15, 2026.

ADDRESSES: Send written requests for repatriation of the human remains in this notice to Deborah Straussman, The New York Public Library, 476 Fifth Avenue, New York, NY 10018, email deborahstraussman@nypl.org.

SUPPLEMENTARY INFORMATION: This notice is published as part of the National Park Service's administrative responsibilities under NAGPRA. The determinations in this notice are the sole responsibility of The New York Public Library, and additional information on the determinations in this notice, including the results of consultation, can be found in its inventory or related records. The National Park Service is not responsible for the determinations in this notice.

Abstract of Information Available

Human remains representing, at least, one individual have been identified. No associated funerary objects are present. United States Sanitary Commission records, Statistical Bureau archives, Manuscripts and Archives Division, The New York Public Library.MssCol 18780. Box 117; Lock of hair belonging to Philip Konjockoty, identified as a 109-year-old Seneca Indian, examined on November 9, 1865. No known hazardous substances. Reportedly collected by the United States Sanitary Commission. Donated by the United States Sanitary Commission to the Astor Library, 1879. Astor Library, Lenox Library and Tilden Trust combined in 1895 to become The New York Public Library, Astor, Lenox and Tilden Foundations.

Cultural Affiliation

Based on the information available and the results of consultation, cultural affiliation is clearly identified by the information available about the human remains.

Determinations

The New York Public Library has determined that:

• The human remains described in this notice represent the physical remains of one individual of Native American ancestry.

• There is a connection between the human remains described in this notice and the Seneca Nation of Indians.

Requests for Repatriation

Written requests for repatriation of the human remains in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains described in this notice to a requestor may occur on or after January 15, 2026. If competing requests for repatriation are received, The New York Public Library must determine the most appropriate requestor prior to repatriation. Requests for joint repatriation of the human remains are considered a single request and not competing requests. The New York Public Library is responsible for sending a copy of this notice to the Indian Tribes and Native Hawaiian organizations identified in this notice.

Authority: Native American Graves Protection and Repatriation Act, 25 U.S.C. 3003, and the implementing regulations, 43 CFR 10.10.

Dated: November 17, 2025.
Melanie O'Brien,
Manager, National NAGPRA Program.

[FR Doc. 2025-22897 Filed 12-15-25; 8:45 am]

BILLING CODE 4312-52-P